DEPARTMENT OF DEFENSE

Department of the Army; Corps of Engineers

Intent to Prepare a Draft Environmental Impact Statement for Residential, Commercial, and Marine Development Along the Gulf Intracoastal Waterway

AGENCY: Department of the Army, U.S. Corps of Engineers, DoD.

ACTION: Notice of intent.

SUMMARY: The Mobile District, U.S. Army Corps of Engineers (Corps), intends to prepare a Draft Environmental Impact Statement (DEIS) to address the potential impacts associated with mixed-use waterfront development along the Gulf Intracoastal Waterway (GIWW) in Baldwin County, AL, specifically the stretch known as the “Foley Land Cut”. The Corps will be evaluating 14 separate permit applications for the proposed work under the authority of Section 10 of the Rivers and Harbors Act and Section 404 of the Clean Water Act. The EIS will be used as a basis for ensuring compliance with the National Environmental Policy Act (NEPA).

FOR FURTHER INFORMATION CONTACT: Questions about the proposed action and the DEIS should be addressed to Mr. Michael B. Moxey, Regulatory Division, phone (251) 694-3771 or e-mail at michael.b.moxey@sam.usace.army.mil, or Dr. Susan Ivester Rees, Coastal Environment Team, phone (251) 694-4141 or e-mail at susan.i.rees@sam.usace.army.mil, Mobile District, U.S. Army Corps of Engineers, P.O. Box 2288, Mobile, AL 36628-0001.

SUPPLEMENTARY INFORMATION: 1. The permit applications propose construction of 14 mixed-use developments along the GIWW consisting of the following: in excess of 5,644 condominium units, 1,780 wet boat slips, 1,822 dry boat storage spaces, various commercial establishments, support facilities, and various resort amenities. The projects will be located in South Baldwin County on 14 parcels of land, of which 13 parcels are located along the northern shore of the GIWW and are generally bounded to the north by Baldwin County Road 4. The only other parcel of land proposed for development is located on Oyster Bay to the south of the GIWW. The portions of the properties fronting the GIWW are expected to be used for water based developments and include marinas, ship stores, and associated infrastructure. The remaining portions of the properties are expected to accommodate mixed-use development and include condominium units, amenities such as pools, boardwalks, and restroom facilities, and light commercial outlets. Construction of the proposed projects will require excavation of or placement of fill in approximately 12.6 acres of adjacent wetlands, bulkheads for shore protection, and dredging of waterbottoms.

2. The “Foley Land Cut” (FLC) of the GIWW in Alabama extends from Wolf Bay in the east to Oyster Bay in the west. The authorization for the construction of this part of the GIWW was enacted in the Rivers and Harbors Act of July 3, 1930, as part of the Pensacola Bay to Mobile Bay segment of the GIWW. Easements for construction of the channel (9′ x 100′ at that time) were acquired in the 1932 time frame, and the FLC part of the Pensacola Bay to Mobile Bay GIWW segment was completed (constructed) in 1934. The FLC is approximately 10 miles long with the Corps holding easements fronting the majority of the FLC and maintains disposal areas for Federal channel maintenance dredging. The property fronting the FLC historically has been developed for light industrial use to support the commercial waterways users. However, the western end of the land cut near Oyster Bay supports single family residences on the southern shore and a condominium marina complex (100 wet boat slips) located on the north shoreline. The majority of the FLC is now rezoned to marina resort from single residential family and/or light industrial use.

3. Alternatives to the applicants' proposals may exist which would reduce impacts to the GIWW and surrounding aquatic environment. These could include reducing the number of boat slips associated with each development, restricting the number of boat slips in particular areas along the GIWW, pursuing alternate site layouts that may have less impacts on the aquatic environment.

4. Scoping: a. The Corps invites full public participation to promote open communication on the issues surrounding the proposal. All Federal, State, and local agencies, and other persons or organizations that have an interest are urged to participate in the NEPA scoping process. Public meetings will be held to help identify significant issues and to receive public input and comment.

b. The DEIS will analyze the potential social, economic, and environmental impacts to the local area resulting from the proposed project and alternatives. Specifically, the following major issues will be analyzed in the DEIS: Hydrologic and hydraulic regimes, threatened and endangered species, essential fish habitat and other marine habitat, air quality, cultural resources, wastewater treatment capacities and discharges, drainage discharges, transportation systems, alternatives, secondary and cumulative impacts, socioeconomic impacts, environmental justice (effect on minorities and low-income groups) (Executive Order 12898), and protection of children (Executive Order 13045).

c. The Corps will serve as the lead Federal agency in the preparation of the DEIS. It is anticipated that the following agencies will be invited and will accept cooperating agency status for the preparation of the DEIS: U.S. Environmental Protection agency, U.S. Department of the Interior—Fish and Wildlife Service, U.S. Department of Commerce—National Marine Fisheries Service, U.S. Coast Guard, U.S. Department of Transportation, Federal Highway Administration, Alabama Department of Environmental Management, Alabama Department of Conservation and Natural Resources, Alabama Department of Transportation, and Alabama State Historic Preservation Officer, City of Gulf Shores, and the City of Orange Beach.

5. The first scoping meeting will be held in mid-June in Gulf Shores or Orange Beach, Alabama.

6. It is anticipated that the DEIS will be made available for public review in December 2006.

David S. Hobbie,
Chief, Regulatory Division.

[FR Doc. 06-4881 Filed 5-25-06; 8:45 am]

BILLING CODE 3710-CR-M